INTERNATIONAL TRADE COMMISSION

[Investigation No. 337-TA-657]

Certain Automotive Multimedia Display and Navigation Systems, Components Thereof, and Products Containing Same; Notice of Commission Determination To Grant the Joint Motion To Terminate the Investigation on the Basis of Settlement

AGENCY: U.S. International Trade Commission.

ACTION: Notice.

SUMMARY: Notice is hereby given that the U.S. International Trade Commission has determined to grant the joint motion to terminate the above-captioned investigation based upon settlement.

FOR FURTHER INFORMATION CONTACT: Sidney A. Rosenzweig, Esq., Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted Investigation No. 337-TA-657 on September 22, 2008, based on a complaint filed by Honeywell International Inc. of Morristown, New Jersey (“Honeywell”). 73 FR 54617 (Sept. 22, 2008). The complainant named the following respondents: Alpine Electronics, Inc. of Japan, and Alpine Electronics of America, Inc. of Torrance, California (collectively “Alpine”); Denso Corporation of Japan, and Denso International America, Inc. of Southfield, Michigan (collectively “Denso”); Pioneer Corporation of Japan and Pioneer Electronics (USA) Inc. of Long Beach, California (collectively “Pioneer”); and Kenwood Corporation of Japan and Kenwood USA Corporation of Long Beach, California (collectively “Kenwood”). The complaint alleged violations of Section 337 of the Tariff Act of 1930, 19 U.S.C. 1337, in the importation, sale for importation, and sale within the United States after importation of certain automotive multimedia display and navigation systems, components thereof, and products containing the same that infringe certain claims of certain Honeywell patents. Honeywell settled its disputes with Kenwood, Denso, and Alpine, and the Administrative Law Judge (“ALJ”) terminated the investigation with regard to those respondents. The Commission determined not to review any of these initial determinations. Pioneer remained as the sole respondent, and its products accused of infringement include factory-installed GPS units in certain automobiles and certain after-market “head-unit” GPS devices that are mounted in automobile dashboards.

On September 22, 2009, the ALJ issued his final Initial Determination (“ID”), finding no violation of section 337 by Pioneer. On November 23, 2009, the Commission determined, upon Honeywell's motion and Pioneer's contingent motion, to review in part the ID. 74 FR 62589 (Nov. 30, 2009). On November 30, 2009, Honeywell and Pioneer moved the Commission to extend the briefing deadlines because the parties were engaged in settlement discussions. The Commission granted that motion, extending briefing for approximately three weeks. 74 FR 64100 (Dec. 7, 2009).

On December 22, 2009, Honeywell and Pioneer filed their Joint Motion to Terminate Investigation as to Respondents Pioneer Corporation and Pioneer Electronics (USA) Inc. Based Upon Settlement Agreement. On December 24, 2009, the Commission investigative attorney filed a response that recommended that the Commission grant the motion.

Having examined the record of this investigation, the Commission has determined to grant the joint motion to terminate the investigation.

The authority for the Commission's determination is contained in section 337 of the Tariff Act of 1930, as amended (19 U.S.C. 1337), and in section 210.21 of the Commission's Rules of Practice and Procedure (19 CFR 210.21).

Issued: January 4, 2010.
By order of the Commission.
Marilyn R. Abbott,
Secretary to the Commission.

[FR Doc. 2010-89 Filed 1-7-10; 8:45 am]

BILLING CODE 7020-02-P